DEPARTMENT OF LABOR

Proposed Information Collection for Voice of Latino Workforce Experience Survey; Comment Request

AGENCY: Employment and Training Administration.

ACTION: Notice.

SUMMARY: The Department of Labor, as part of its continuing effort to reduce paperwork and respondent burden, conducts a preclearance consultation program to provide the general public and Federal agencies an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment and Training Administration is soliciting comments concerning the proposed one-time telephone survey of Latinos, entitled Voice of Latino Workforce Experience.

A copy of the proposed information collection request can be obtained by contacting the office listed below in the addressee section of this notice or by accessing: http://www.doleta.gov/OMBCN/OMBControlNumber.cfm.

DATES: Written comments must be submitted to the office listed in the addressee's section below on or before January 19, 2010.

ADDRESSES: Submit written comments to the Employment and Training Administration, Office of Policy Development and Research, 200 Constitution Avenue, NW., Room N5641, Washington, DC 20210, Attention: Mr. Daniel Carroll. Telephone number: 202-693-2795 (this is not a toll-free number). Fax: 202-693-2766. E-mail: carroll.daniel.j@dol.gov.

SUPPLEMENTARY INFORMATION:

I. Background

Latino Americans are one of the fastest-growing segments of the American workforce, and projections indicate that this trend will continue. Latinos represent a substantial workforce asset because of their overall youth and notable rates of labor force participation, particularly in light of trends such as the aging of the workforce and slower labor force growth. However, Latinos tend to be concentrated in occupations with relatively low wages and few career options and experience higher unemployment rates and lower earnings than most other U.S. population groups. Workforce development is vital to ensuring that this growing portion of the U.S. labor force can reach its full potential. Yet, the Latino population and workforce are very diverse, and more detailed, specific information has been needed to ensure that programs and services are tailored to the various types of Latino workers' needs and preferences.

To understand the continuum of Latino perspectives on the economy, jobs, and public workforce investment system and increase the capacity to assist local workforce investment boards, the proposed survey, Voice of Latino Workforce Experience, will collect and analyze first-person accounts of experiences and opinions from Latino workers in Washington, DC, Fort Lauderdale, Florida, and Chicago, Illinois.

This will be a one-time telephone survey with a sample of self-identified Latino workers in each of the three metropolitan regions. The survey will collect important information on a variety of topics, including basic demographics, current occupation, participation in workforce education and training programs, training needed for a better job, and obstacles to participating in necessary training.

II. Review Focus

The Department of Labor is particularly interested in comments which:

* Evaluate whether the proposed collection of information is necessary for the proper performance of the functions of the agency, including whether the information will have practical utility;

* Evaluate the accuracy of the agency's estimate of the burden of the proposed collection of information, including the validity of the methodology and assumptions used;

* Enhance the quality, utility, and clarity of the information to be collected; and

* Minimize the burden of the collection of information on those who are to respond, including through the use of appropriated automated, electronic, mechanical, or other technological collection techniques or other forms of information technology, e.g., permitting electronic submissions of responses.

III. Current Actions

Type of Review: New Collection.

Agency: Employment and Training Administration.

Title: Voice of Latino Workforce Experience Survey.

OMB Number: 1205-0NEW.

Affected Public: Individuals.

Total Respondents: 4,800.

Frequency: One-time survey.

Total Responses: 4,800.

Average Time per Response: 5.25 minutes.

Estimated Total Burden Hours: 420 (see Table 1, below).

Table 1—Estimated Burden Hours
Who will be interviewed? | Survey Instrument | Respondents | Average Time per Respondent | Total Hours
Latino Workers | Questionnaire | 1,200 | 15 minutes | 300
Phone Answerer | Point of Contact Only | 3,600 | 2 minutes | 120
Total |  | 4,800 |  | 420

Total Burden Cost (operating/maintaining): $0

Comments submitted in response to this comment request will be summarized and/or included in the request for Office of Management and Budget approval of the information collection request; they will also become a matter of public record.

Dated: Signed October 30, 2009.
Jane Oates,
Assistant Secretary, Employment and Training Administration.

[FR Doc. E9-27533 Filed 11-16-09; 8:45 am]

BILLING CODE 4510-FN-P